DEPARTMENT OF LABOR

Employment and Training Administration

[TA-W-56,030]

Arista Beaver Brook Circuits, Bethel, CT, Notice of Termination of Investigation

Pursuant to Section 221 of the Trade Act of 1974, as amended, an investigation was initiated on November 17, 2004 in response to a petition filed on behalf of workers of Arista Beaver Brook Circuits, Bethel, Connecticut.

All but two workers were separated from the subject firm more than one year before the date of the petition. Section 223(b) of the Act specifies that no certification may apply to any worker whose last separation occurred more than one year before the date of the petition.

The remaining two workers were separated in December 2003, and did not represent a significant number or proportion of workers as required by Section 222 of the Trade Act of 1974. Significant number or proportion of the workers means that at least three workers in a firm with a workforce of fewer than 50 workers would have to be affected. Separations by the subject firm did not meet this threshold level in the relevant time period. Consequently, further investigation in this case would serve no purpose, and the investigation has been terminated.

Signed at Washington, DC, this 30th day of November 2004.
Richard Church,
Certifying Officer, Division of Trade Adjustment Assistance.

[FR Doc. 04-28572 Filed 12-29-04; 8:45 am]

BILLING CODE 4510-30-P